DEPARTMENT OF COMMERCE

International Trade Administration

(A-427-820)

Stainless Steel Bar from France: Notice of Partial Rescission of Antidumping Duty Administrative Review

AGENCY: Import Administration, International Trade Administration, Department of Commerce.

EFFECTIVE DATE: June 15, 2007.

FOR FURTHER INFORMATION CONTACT: Terre Keaton Stefanova or David Goldberger, AD/CVD Operations, Office 2, Import Administration, International Trade Administration, U.S. Department of Commerce, 14th Street and Constitution Avenue, NW, Washington, DC 20230; telephone: (202) 482-1280 or (202) 482-4136, respectively.

SUPPLEMENTARY INFORMATION:

Background

On March 2, 2007, the Department of Commerce (the Department) published in the Federal Register a notice of “Opportunity To Request Administrative Review” of the antidumping duty order on stainless steel bar from France for the period March 1, 2006, through February 28, 2007. See Antidumping or Countervailing Duty Order, Finding, or Suspended Investigation; Opportunity to Request Administrative Review, 72 FR 9505 (March 2, 2007). On March 30, 2007, Ugitech S.A. (Ugitech) requested an administrative review of its U.S. sales that were subject to the antidumping duty order on stainless steel bar from France for this period. On April 2, 2007, Ascometal S.A. (Ascometal) requested an administrative review of its U.S. sales that were subject to the antidumping duty order on stainless steel bar from France for this period. On April 27, 2007, the Department published a notice of initiation of an administrative review of the antidumping duty order on stainless steel bar from France with respect to these companies. See Initiation of Antidumping and Countervailing Duty Administrative Reviews, 72 FR 20986 (April 27, 2007).

Partial Rescission of Review

On May 24, 2007, Ugitech timely withdrew its request for an administrative review of its sales during the above-referenced period. Pursuant to 19 CFR 351.213(d)(1), the Secretary will rescind an administrative review, in whole or in part, if a party who requested the review withdraws the request within ninety days of the date of publication of notice of initiation of the requested review. Because Ugitech has withdrawn its request for review within the 90-day period and no other party requested a review of Ugitech, in accordance with 19 CFR 351.213(d)(1), we are rescinding this review with respect to Ugitech.

The Department will issue appropriate assessment instructions directly to U.S. Customs and Border Protection (CBP) 15 days after the publication of this notice. The Department will direct CBP to assess antidumping duties at the cash deposit rate in effect on the date of entry for entries during the period March 1, 2006, through February 28, 2007.

This notice is published in accordance with section 777(i)(1) of the Tariff Act of 1930, as amended, and 19 CFR 351.213(d)(4).

Dated: June 11, 2007.
Stephen J. Claeys,
Deputy Assistant Secretary for Import Administration.

[FR Doc. E7-11609 Filed 6-14-07; 8:45 am]

BILLING CODE 3510-DS-S